Title 3—

The President

Proclamation 7545 of April 19, 2002

National Volunteer Week, 2002

By the President of the United States of America

A Proclamation

Citizen service has always been a cornerstone of our democracy. Since our founding, Americans have stepped forward to serve the needs of others, strengthen our communities, and defend the freedoms we treasure.

Our country and the world continue to see the compassion, strength, and generosity of Americans in the aftermath of the attacks of September 11, 2001. Volunteers from across the Nation united to help meet the needs of those harmed by the tragic attacks, volunteering their time, their financial resources, and their kindness.

The spirit that guided our response to the attacks is still evident in Americans of every age group and background who volunteer their time to enhance the lives of others. These compassionate people work through a broad range of organizations that reflect the diversity of our country, including private charities, faith-based organizations, schools, neighborhood groups, volunteer centers, service clubs, and Federal service programs. The efforts of millions of Americans help solve some of our most pressing problems and build bonds of trust among people.

To tap further into our Nation's vast resources of compassion and strength, I recently created the USA Freedom Corps (USAFC). And I have called on all Americans to give at least 2 years—or 4,000 hours—during their lives in service to others. This service is essential to forging a united response to overcoming the challenges that face our Nation.

The USAFC will help unleash our armies of compassion, enhance homeland security, provide additional service and volunteer opportunities in our communities, and help people in America and around the world to meet important needs. Many Americans are already answering the call, volunteering a few hours each week or a few days each month to aid a local school, by mentoring or tutoring a child. Citizens are also donating their time to support a place of worship, to offer their expertise to a neighborhood association, or to strengthen a local service organization. Others are serving our country full time in the military or in programs such as AmeriCorps, Senior Corps, and the Peace Corps. I urge citizens to keep a record of their service experiences in a journal that will enable them to share them with their children and grand children, inspiring new generations to engage in community service.

The spirit exemplified by America's volunteers will help create a culture of responsibility and caring that will inspire us to achieve greatness as a Nation. During National Volunteer Week, I encourage all Americans to learn more about how they can serve, to volunteer to help those in need, and to encourage the volunteers across the country who are answering the call to service. Americans looking for a way to serve can contact the USA Freedom Corps web site at www.usafreedomcorps.gov or call, toll-free, 1-877-USA-CORPS (872-2677).

NOW, THEREFORE, I, GEORGE W. BUSH, President of the United States of America, by virtue of the authority vested in me by the Constitution and laws of the United States, do hereby proclaim April 21 through April 27, 2002, as National Volunteer Week. I call on all Americans to join together to celebrate the vital work that volunteers perform every day across our country. IN WITNESS WHEREOF, I have hereunto set my hand this nineteenth day of April, in the year of our Lord two thousand two, and of the Independence of the United States of America the two hundred and twenty-sixth.

B

[FR Doc. 02-10202

Filed 4-23-01; 8:45 am]

Billing code 3195-01-P